DEPARTMENT OF JUSTICE

Notice of Lodging of Consent Decree Under the Clean Water Act

Pursuant to 28 CFR 50.7, notice is hereby given that a proposed Consent Decree in United States and Commonwealth of Pennsylvania v. J & L Specialty Steel Company, L.L.C., Civil Action No. 04-807 was lodged with the United States District Court for the Western District of Pennsylvania on May 28, 2004. The Commonwealth of Pennsylvania has filed a Complaint in Intervention and is a signatory to the proposed Consent Decree.

In its Complaint, the United States alleges J & L Specialty Steel, L.L.C. (“J & L”) violated the Clean Water Act, 33 U.S.C. 1251 et seq., and the requirements of J & L's National Pollutant Discharge Elimination System (“NPDES”) permit at J & L's Midland, Pennsylvania, steel-making facility (“Midland Facility”). The United States' Complaint alleged that J & L discharged pollutants in excess of the amounts allowed pursuant to J & L's NPDES permit for the Midland Facility, and that J & L failed to comply with the Spill Prevention Control and Countermeasures (“SPCC”) requirements of the Clean Water Act. The Commonwealth of Pennsylvania filed a Motion for Leave to Intervene and a Complaint in Intervention, alleging violations of the Pennsylvania Clean Streams Law.

The proposed Consent Decree resolves J & L's liability to the United States and the Commonwealth for the violations alleged in the Complaints. J & L has implemented measures to prevent future violations of the Clean Water Act at the Midland Facility. The Decree requires J & L to pay a civil penalty of $50,000 to the United States and $50,000 to the Commonwealth of Pennsylvania.

The Department of Justice will receive for a period of twenty (20) days from the date of this publication comments relating to the Consent Decree. Please address comments to the Assistant Attorney General, Environment and Natural Resources Division, P.O. Box 7611, U.S. Department of Justice, Washington, DC 20044-7611, and refer to United States v. J & L Specialty Steel Company, L.L.C., DOJ No. 90-5-1-1-08243.

The Consent Decree may be examined at the Office of the United States Attorney for the Western District of Pennsylvania, U.S. Post Office and Courthouse, Suite 400, 700 Seventh Avenue, Pittsburgh, PA 15219 and at U.S. EPA Region III, 1650 Arch Street, Philadelphia, PA 19103. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.00 (25 cents per page reproduction cost) payable to the U.S. Treasury.

Robert Brook,
Assistant Chief, Environmental Enforcement Section, Environment and Natural Resources Division.

[FR Doc. 04-13041 Filed 6-8-04; 8:45 am]

BILLING CODE 4410-15-M